DEPARTMENT OF ENERGY

Federal Energy Regulatory Commission

Combined Notice of Filings #1

Take notice that the Commission received the following electric rate filings:

Docket Numbers: ER12-2159-001.

Applicants: Canadian Hills Wind, LLC.

Description: Amendment to MBR Application and Tariff Revision to be effective 8/28/2012.

Filed Date: 7/19/12.

Accession Number: 20120719-5033.

Comments Due: 5 p.m. ET 8/9/12.

Docket Numbers: ER12-2265-000.

Applicants: Canandaigua Power Partners, LLC.

Description: Revisions to Market-Based Rate Tariff to be effective 9/17/2012.

Filed Date: 7/19/12.

Accession Number: 20120719-5044.

Comments Due: 5 p.m. ET 8/9/12.

Docket Numbers: ER12-2266-000.

Applicants: Canandaigua Power Partners II, LLC.

Description: Revisions to Market-Based Rate Tariff to be effective 9/17/2012.

Filed Date: 7/19/12.

Accession Number: 20120719-5046.

Comments Due: 5 p.m. ET 8/9/12.

Docket Numbers: ER12-2267-000.

Applicants: Evergreen Wind Power, LLC.

Description: Revisions to Market-Based Rate Tariff to be effective 9/17/2012.

Filed Date: 7/19/12.

Accession Number: 20120719-5049.

Comments Due: 5 p.m. ET 8/9/12.

Docket Numbers: ER12-2268-000.

Applicants: Evergreen Wind Power III, LLC.

Description: Revisions to Market-Based Rate Tariff to be effective 9/17/2012.

Filed Date: 7/19/12.

Accession Number: 20120719-5051.

Comments Due: 5 p.m. ET 8/9/12.

Docket Numbers: ER12-2269-000.

Applicants: Stetson Wind II, LLC.

Description: Revisions to Market-Based Rate Tariff to be effective 9/17/2012.

Filed Date: 7/19/12.

Accession Number: 20120719-5052.

Comments Due: 5 p.m. ET 8/9/12.

Docket Numbers: ER12-2270-000.

Applicants: Milford Wind Corridor Phase I, LLC.

Description: Revisions to Market-Based Rate Tariff to be effective 9/17/2012.

Filed Date: 7/19/12.

Accession Number: 20120719-5054.

Comments Due: 5 p.m. ET 8/9/12.

Docket Numbers: ER12-2271-000.

Applicants: First Wind Energy Marketing, LLC.

Description: Revisions to Market-Based Rate Tariff to be effective 9/17/2012.

Filed Date: 7/19/12.

Accession Number: 20120719-5055.

Comments Due: 5 p.m. ET 8/9/12.

Docket Numbers: ER12-2272-000.

Applicants: New York Independent System Operator, Inc.

Description: NYISO Tariff Amendment to Reflect Revisions to ETAs to be effective 9/17/2012.

Filed Date: 7/19/12.

Accession Number: 20120719-5056.

Comments Due: 5 p.m. ET 8/9/12.

Docket Numbers: ER12-2273-000.

Applicants: Public Service Company of Colorado.

Description: 2012-7-19-Form of Svc Agmt T-L Intercon Svc Filing to be effective 8/1/2012.

Filed Date: 7/19/12.

Accession Number: 20120719-5057.

Comments Due: 5 p.m. ET 8/9/12.

Docket Numbers: ER12-2274-000.

Applicants: Public Service Electric and Gas Company, PJM Interconnection, L.L.C.

Description: PSE&G revises OATT Att H-10A re BRH Abandoned Costs to be effective 9/17/2012.

Filed Date: 7/19/12.

Accession Number: 20120719-5121.

Comments Due: 5 p.m. ET 8/9/12.

Docket Numbers: ER12-2275-000.

Applicants: Lexington Power & Light, LLC.

Description: Baseline New Filing to be effective 7/20/2012.

Filed Date: 7/19/12.

Accession Number: 20120719-5131.

Comments Due: 5 p.m. ET 8/9/12.

Docket Numbers: ER12-2276-000.

Applicants: PJM Interconnection, L.L.C.

Description: PJM SA No. 3350—Queue #X1-097—Diamond State Gen & Delmarva Pwr & Light to be effective 6/19/2012.

Filed Date: 7/19/12.

Accession Number: 20120719-5134.

Comments Due: 5 p.m. ET 8/9/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 20, 2012.
Nathaniel J. Davis, Sr.,
Deputy Secretary.

[FR Doc. 2012-18502 Filed 7-27-12; 8:45 am]

BILLING CODE 6717-01-P